FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington, DC 20551-0001, not later than August 7, 2024.

A. Federal Reserve Bank of Kansas City (Jeffrey Imgarten, Assistant Vice President) 1 Memorial Drive, Kansas City, Missouri 64198-0001. Comments can also be sent electronically to KCApplicationComments@kc.frb.org:

1. Richard Robirds, Sterling, Colorado, as co-trustee with Farmers State Bank of Brush, Brush, Colorado, of the Testamentary Trust created by the Last Will and Testament of Alonzo Petteys, Deceased, Dated 8/21/1964, the Robert A. Petteys Trust, and the Alonzo & Anna Petteys Children's Trust FBO Robert A. Petteys; as members of the Petteys Family Control Group, to acquire voting shares of First Pioneer Bank Corp., Brush, Colorado, and thereby indirectly acquire voting shares of The Farmers State Bank of Brush, Brush, Colorado, and First Pioneer National Bank, Wray, Colorado. In addition, Judith A. Gunnon, Rochester, Minnesota, as trustee of the Judith A. Gunnon Trust; Carol J. Tomasini, Kittredge, Colorado; A. Donald Tomasini, Kittredge, Colorado; Julia A. Casto, Boxford, Massachusetts; Christian R. Gunnon, Maple Grove, Minnesota; John A. Gunnon, Rochester, Minnesota; Cynthia C. Sprenger, Auburn, Washington; Leslie Petteys, Huntington, West Virginia, as trustee of the Petteys Family Trust FBO of Leslie Petteys; and Tom Petteys, Sheridan, Colorado, as trustee of the Petteys Family Trust FBO Tom Petteys to retain voting shares of First Pioneer Bank Corp. and join the Petteys Family Control Group.

2. Schloredt Family Revocable Trust and Jett Schloredt, as co-trustee with Dolly Schloredt, all of Sundance, Wyoming, to become members of the Richard Durfee Family Control Group, a group acting in concert; to acquire voting shares of Sundance Bankshares, Inc., and thereby indirectly acquire voting shares of Sundance State Bank, both of Sundance, Wyoming. Dolly Schloredt was previously permitted by the Federal Reserve System to control the voting shares of Sundance Bankshares, Inc., and Sundance State Bank.

3. Thomas S. Dinsdale 2011 Irrevocable Trust, Kim W. Dinsdale, trustee, both of Grand Island, Nebraska; to acquire voting shares of Pinnacle Bancorp, Inc., Omaha, Nebraska, and thereby indirectly acquire voting shares of Pinnacle Bank, Lincoln, Nebraska; Pinnacle Bank, Fort Worth, Texas; Pinnacle Bank-Wyoming, Cody, Wyoming; and Bank of Colorado, Fort Collins, Colorado, and to become a member of the Dinsdale Family Group, a group acting in concert that controls Pinnacle Bancorp, Inc.

B. Federal Reserve Bank of Minneapolis (Stephanie Weber, Assistant Vice President), 90 Hennepin Avenue, Minneapolis, Minnesota 55480-0291. Comments can also be sent electronically to MA@mpls.frb.org:

1. Colleen Short Lucke, Edina, Minnesota; Kevin Short, Hudson, Wisconsin; and Elizabeth Short, University Heights, Ohio; each individually and as trustee of one or more Short family trusts; to retain voting shares of 215 Holding Co., Minneapolis, Minnesota (“Company”), and thereby indirectly retain voting shares of Liberty Financial Services, Inc., and Liberty National Bank, both of Sioux City, Iowa; First Farmers & Merchants National Bank, Luverne, Minnesota; First Farmers & Merchants National Bank, Fairmont, Minnesota; First Farmers & Merchants State Bank, Brownsdale, Minnesota; First Farmers & Merchants State Bank of Grand Meadow, Grand Meadow, Minnesota; and First Farmers & Merchants Bank, Cannon Falls, Minnesota (together “the Subsidiaries”). Additionally, the Robert M. Short Revocable Trust, Minneapolis, Minnesota (trustees Brian Short, St. Paul, Minnesota; Marianne Short, St. Paul, Minnesota; and Colleen Short Lucke) to join the Short family shareholder group and to retain voting shares of Company and thereby indirectly retain voting shares of the Subsidiaries.

Board of Governors of the Federal Reserve System.
Erin Cayce,
Assistant Secretary of the Board.

[FR Doc. 2024-16164 Filed 7-22-24; 8:45 am]

BILLING CODE P